ENVIRONMENTAL PROTECTION AGENCY

40 CFR Part 70

[Regional Docket Nos. II-2002-03, -04, -12; FRL -7776-3]

Clean Air Act Operating Permit Program; Petitions for Objection to State Operating Permits for Sirmos Division of Bromante; the New York City Transit Authority's East New York Bus Depot; and the New York Organic Fertilizer Company

AGENCY: Environmental Protection Agency (EPA).

ACTION: Notice of final orders on petitions to object to three State operating permits.

SUMMARY: This document announces that the EPA Administrator has responded to three citizen petitions asking EPA to object to operating permits issued to three facilities by the New York State Department of Environmental Conservation (NYSDEC). Specifically, the Administrator has partially granted and partially denied each of the petitions submitted by the New York Public Interest Research Group (NYPIRG) to object to each of the State operating permits issued to the following facilities: Sirmos Division of Bromante Corp. (Sirmos) in Long Island City, NY; New York City Transit Authority's (NYCTA) East NY Bus Depot in Brooklyn, NY; and New York Organic Fertilizer Company's (NYOFCO) sludge pelletization facility in the Bronx, NY.

Pursuant to section 505(b)(2) of the Clean Air Act (Act), Petitioner may seek judicial review of those portions of the petitions which EPA denied in the United States Court of Appeals for the appropriate circuit. Any petition for review shall be filed within 60 days from the date this notice appears in the Federal Register, pursuant to section 307 of the Act.

ADDRESSES: You may review copies of the final orders, the petitions, and other supporting information at the EPA Region 2 Office, 290 Broadway, New York, New York 10007-1866. If you wish to examine these documents, you should make an appointment at least 24 hours before visiting day. Additionally, the final orders for Sirmos, the NYCTA, and NYFCO are available electronically at: http://www.epa.gov/region07/programs/artd/air/title5/petitiondb/petitiondb2002.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

I. Sirmos

On April 11, 2002, the EPA received a petition from NYPIRG, requesting that EPA object to the issuance of the title V operating permit for Sirmos. The petition raises issues regarding the permit application, the permit issuance process, and the permit itself. NYPIRG asserts that: (1) The permit was issued without adequate opportunity for public comment through a public hearing; (2) the permit is based on an inadequate permit application; (3) the permit lacks an adequate statement of basis; (4) the permit distorts the annual certification requirements; (5) the permit does not require prompt reporting of all deviations; (6) the permit's startup/shutdown, malfunction, maintenance, and upset provision violates part 70; (7) the emergency defense provision is in violation of 40 CFR 70.6(g); (8) the permit lacks federally enforceable conditions that govern the procedures for permit renewal; and (9) the permit lacks monitoring that is sufficient to assure the facility's compliance with all applicable requirements and many individual permit conditions are not practicably enforceable. On May 24, 2004, the Administrator issued an order partially granting and partially denying the petition on Sirmos. The order explains the reasons behind EPA's conclusion that the NYSDEC must reopen the permit to: (1) Include adequate monitoring to assure compliance with the facility's opacity limits; (2) include periodic monitoring to assure compliance with the VOC handling, storage and disposal requirements of 6 NYCRR section 228.10; and (3) indicate the environmental rating for each air contaminant from each emission source as required under 6 NYCRR section 212.2. The order also explains the reasons for denying NYPIRG's remaining claims.

II. NYCTA

On May 16, 2002, the EPA received a petition from NYPIRG, requesting that EPA object to the issuance of the title V operating permit for the NYCTA's East New York Bus Depot facility. NYPIRG raises 8 of the 9 issues raised in the Sirmos petition (all except for issue 7, above). On May 24, 2004, the Administrator issued an order partially granting and partially denying the petition. The order explains the reasons behind EPA's conclusion that the NYSDEC must reopen the permit to: (1) hold permittee responsible for complying with the sulfur-in-fuel limit; (2) require daily inspection of solvent storage containers to ensure compliance with 6 NYCRR section 226; (3) require periodic monitoring for opacity during operation of the spray paint booths to assure compliance with 6 NYCRR section 228; (4) require periodic testing for VOC content of surface coating materials to assure compliance with 6 NYCRR section 228; and (5) address an old PM emission limit that applies to any oil fired stationary combustion installation. The order also explains the reasons for denying NYPIRG's remaining claims.

III. NYOFCO

On October 4, 2002, the EPA received a petition from NYPIRG, requesting that EPA object to the issuance of the title V operating permit for the NYOFCO's sludge pelletization facility. NYPIRG raises 7 of the 9 issues raised in the Sirmos petition (issues 2 through 6, 8, and 9, above). In addition, NYPIRG raises four additional issues in the petition for NYOFCO: (1) NYSDEC violated the public participation and record requirements; (2) the permit incorrectly states that the facility is not subject to new source review; (3) the permit fails to include an adequate compliance schedule; and (4) the final permit contains errors that were noted in a document presented by NYPIRG and local community groups to NYSDEC Region 2. On May 24, 2004, the Administrator issued an order partially granting and partially denying the petition. The order explains the reasons behind EPA's conclusion that the NYSDEC must reopen the permit to: (1) add to the “federal-side” of the permit the SIP-approved “excuse” provision of 6 NYCRR section 201.5(e); (2) add opacity requirements pursuant to 6 NYCRR section 212.6 or explain why NYOFCO is not subject to this requirement; (3) add particulate matter requirements pursuant to 6 NYCRR section 212.4(b) or explain why NYOFCO is not subject to this requirement; (4) for the sulfur-in-fuel provision, correct the citation to the SIP-approved requirement, explain that certain requirements came from the previously issued State permit to construct and certificate to operate, and add monitoring based on fuel supplier reports; and (5) revise the mercury provision to specify the emission limitation and the required periodic monitoring. The order also explains the reasons for denying NYPIRG's remaining claims.

Dated: June 8, 2004.
Jane M. Kenny,
Regional Administrator, Region 2.

[FR Doc. 04-13933 Filed 6-18-04; 8:45 am]

BILLING CODE 6560-50-P